DEPARTMENT OF THE INTERIOR

National Park Service

[N6968; NPS-WASO-NAGPRA-NPS0042110; PPWOCRADN0-PCU00RP14.R50000]

Notice of Inventory Completion: Rutgers, The State University of New Jersey, New Brunswick, NJ

AGENCY: National Park Service, Interior.

ACTION: Notice.

SUMMARY: In accordance with the Native American Graves Protection and Repatriation Act (NAGPRA), Rutgers, the State University of New Jersey has completed an inventory of human remains and has determined that there is a cultural affiliation between the human remains and Indian Tribes or Native Hawaiian organizations in this notice.

DATES: Repatriation of the human remains in this notice may occur on or after April 1, 2026.

ADDRESSES: Send written requests for repatriation of the human remains in this notice to Carol McCarty, Rutgers, the State University of New Jersey, 85 Somerset Street, New Brunswick, NJ 08904, email nagpra_runb@rutgers.edu.

SUPPLEMENTARY INFORMATION: This notice is published as part of the National Park Service's administrative responsibilities under NAGPRA. The determinations in this notice are the sole responsibility of the Rutgers, the State University of New Jersey, and additional information on the determinations in this notice, including the results of consultation, can be found in its inventory or related records. The National Park Service is not responsible for the determinations in this notice.

Abstract of Information Available

Human remains representing, at least, one individual has been identified. No associated funerary objects are present. On an unknown date, a collection was donated and housed at Rutgers University in New Brunswick, NJ. In November 2024, ancestral remains were identified in the collection. No institutional records of provenance exist for these individuals. The ancestral remains are extremely fragmentary, making further assessment beyond an MNI=1 impractical. Provenance information associated with these ancestral remains is limited. Associations with storage location and handwritten information with and on the remains indicate a connection with the late Seton Hall archaeologist Herbert Kraft through John Cavallo. John Cavallo directed contract archaeology work through the Rutgers Center for Public Archaeology from 1991-1998. Cavallo's papers indicate a connection with Herbert Kraft. Therefore, it is suspected that the ancestral remains came to Rutgers from Kraft through Cavallo. Herbert Kraft conducted both documented and undocumented excavations in various New Jersey locations.

Cultural Affiliation

Based on the information available and the results of consultation, cultural affiliation is reasonably identified by the geographical location or acquisition history of the human remains described in this notice.

Determinations

Rutgers, the State University of New Jersey has determined that:

• The human remains described in this notice represent the physical remains of at least one individual of Native American ancestry.

• There is a connection between the human remains described in this notice and the Absentee-Shawnee Tribe of Indians of Oklahoma; Delaware Nation, Oklahoma; Delaware Tribe of Indians; Eastern Shawnee Tribe of Oklahoma; Shawnee Tribe; and the Stockbridge Munsee Community, Wisconsin.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 1, 2026. If competing requests for repatriation are received, the Rutgers, the State University of New Jersey must determine the most appropriate requestor prior to repatriation. Requests for joint repatriation of the human remains are considered a single request and not competing requests. The Rutgers, the State University of New Jersey is responsible for sending a copy of this notice to the Indian Tribes and Native Hawaiian organizations identified in this notice and any other consulting parties.

Authority: Native American Graves Protection and Repatriation Act, 25 U.S.C. 3003, and the implementing regulations, 43 CFR 10.10.

Dated: February 20, 2026.
Melanie O'Brien,
Manager, National NAGPRA Program.

[FR Doc. 2026-04054 Filed 2-27-26; 8:45 am]

BILLING CODE 4312-52-P